DEPARTMENT OF TRANSPORTATION

Office of the Secretary

[DOT-OST-2012-0101]

Privacy Act of 1974; System of Records; Statement of General Routine Uses; Notice of Establishment of Three New General Routine Uses

AGENCY: Office of the Secretary of Transportation, Department of Transportation.

ACTION: Notice to establish three new Privacy Act general routine uses.

SUMMARY: In accordance with the requirements of the Privacy Act of 1974, as amended, 5 U.S.C. 552a, the Department of Transportation's Office of the Secretary of Transportation (DOT/OST) is publishing three new general routine uses for all DOT systems of records. Comment is invited on the three new routine uses. The three new routine uses are needed to clarify: The Department's authority to make disclosures to any person or entity acting on behalf of DOT when the disclosure is necessary to accomplish a DOT function; that the Department may make disclosures to audit or oversight organizations when necessary and relevant to a particular audit or oversight investigation of DOT programs or activities; and that the Department may make disclosures to other governmental entities when necessary for the detection, prevention, disruption, preemption, or mitigation of terrorist activities against the United States, as contemplated by the Intelligence Reform and Terrorism Prevention Act of 2004 (Pub. L. 108-458) and Executive Order 13388 (October 25, 2005).

DATES: Effective August 14, 2012. Written comments should be submitted on or before the effective date. If no comments are received, the proposal will become effective on the above date. If comments are received, the comments will be considered and, where adopted, the documents will be republished with changes.

ADDRESSES: You may submit comments, identified by Docket Number DOT-OST-2012-0101, by one of the following methods:

• Federal e-Rulemaking Portal: http://www.regulations.gov. Follow the instructions for submitting comments.

• Fax: (202) 493-2251

• Mail: Claire W. Barrett, Departmental Chief Privacy Officer, Office of the Chief Information Officer, U.S. Department of Transportation, 1200 New Jersey Ave. SE., Washington, DC 20590.

Instructions: All submissions received must include the agency name and docket number for this notice. All comments received will be posted without change to http://www.regulations.gov, including any personal information provided.

Docket: For access to the docket to read background documents or comments received, go to http://www.regulations.gov.

FOR FURTHER INFORMATION CONTACT: Claire W. Barrett, Departmental Chief Privacy Officer, Office of the Chief Information Officer, U.S. Department of Transportation, 1200 New Jersey Ave. SE., Washington, DC 20590 or privacy@dot.gov or (202) 527-3284.

SUPPLEMENTARY INFORMATION: The Privacy Act of 1974, as amended, 5 U.S.C. 552a, governs the means by which the United States Government collects, maintains, and uses personally identifiable information (PII) in a system of records. A “system of records” is a group of any records under the control of a Federal agency from which information about individuals is retrieved by name or other personal identifier. The Privacy Act requires each agency to publish in the Federal Register, for public notice and comment, a system of records notice (SORN) identifying and describing each system of records the agency maintains, including the purposes for which the agency uses PII in the system and the routine uses for which the agency discloses such information outside the agency. As provided in “Privacy Act Guidelines” issued by the Office of Management and Budget (OMB) on July 1, 1975 (see 40 FR 28966), once an agency has published a routine use that will apply to all of its systems of records (i.e., a general routine use) in the Federal Register for public notice and comment, the agency may thereafter incorporate the publication by reference in each system's SORN without inviting further public comment on that use. To date, DOT has published 12 general routine uses (see 65 FR 19476, published April 11, 2000; 68 FR 8647, published February 23, 2003; and 75 FR 82132, published December 29, 2010).

The three new general routine uses are compatible with the purposes for which the information to be disclosed under these general routine uses was originally collected. With respect to the first new general routine use, individuals whose PII is in DOT systems expect that DOT may engage contractors, experts, consultants, and others to assist it in performing the functions and activities that gave rise to the system of records. This general use does not contemplate uses that are in addition to those already identified in existing DOT SORNs, instead, it clarifies that DOT may disclose information to its contractors, consultants, experts and others when those individuals or organizations are engaged in those uses already described in DOT SORNs on DOT's behalf. With respect to the second new general routine use, individuals whose PII is in DOT systems expect that their information may be disclosed to audit or oversight agencies, like the National Transportation Safety Board, when and only to the extent necessary and relevant to the audit or oversight of DOT activities. Finally, with respect to the third new general routine use, individuals whose information is in DOT systems expect that certain information may be released as is necessary and relevant to detect, prevent, disrupt, or mitigate terrorist activities against the United States.

For the reasons set forth above, the following three general routine uses are established:

13. DOT may disclose records from this system, as a routine use, to contractors and their agents, experts, consultants, and others performing or working on a contract, service, cooperative agreement, or other assignment for DOT, when necessary to accomplish an agency function related to this system of records.

14. DOT may disclose records from this system, as a routine use, to an agency, organization, or individual for the purpose of performing audit or oversight operations related to this system of records, but only such records as are necessary and relevant to the audit or oversight activity. This routine use does not apply to intra-agency sharing authorized under Section (b)(1) of the Privacy Act.

15. DOT may disclose from this system, as a routine use, records consisting of, or relating to, terrorism information (6 U.S.C. 485(a)(5)), homeland security information (6 U.S.C. 482(f)(1)), or Law enforcement information (Guideline 2 Report attached to White House Memorandum, “Information Sharing Environment, November 22, 2006) to a Federal, State, local, tribal, territorial, foreign government and/or multinational agency, either in response to its request or upon the initiative of the Component, for purposes of sharing such information as is necessary and relevant for the agencies to detect, prevent, disrupt, preempt, and mitigate the effects of terrorist activities against the territory, people, and interests of the United States of America, as contemplated by the Intelligence Reform and Terrorism Prevention Act of 2004 (Pub. L. 108-458) and Executive Order 13388 (October 25, 2005).

Dated: July 16, 2012.
Claire W. Barrett,
DOT Chief Privacy Officer.

[FR Doc. 2012-17697 Filed 7-19-12; 8:45 am]

BILLING CODE 4910-9X-P